DEPARTMENT OF THE INTERIOR

Bureau of Land Management

Fish and Wildlife Service

[212L1109AF LLUTC03000 L16100000.DS0000 LXSSJ0740000; UTU-93620; 13-08807]

Notice of Availability of the Records of Decision for a Highway Right-of-Way, Amended Habitat Conservation Plan and Issuance of an Incidental Take Permit for the Mojave Desert Tortoise, and Approved Resource Management Plan Amendments, Washington County, UT

AGENCY: Bureau of Land Management, Interior; Fish and Wildlife Service, Interior.

ACTION: Notice of availability.

SUMMARY: The Bureau of Land Management (BLM) and the U.S. Fish and Wildlife Service (Service), as joint lead agencies, announce the availability of the records of decision (ROD) for the Northern Corridor highway right-of-way (ROW), issuance of an incidental take permit (ITP), and approved amendments for the Red Cliffs National Conservation Area (NCA) and St. George Field Office Resource Management Plans (RMP).

DATES: The Secretary of the Interior signed the ROD on January 13, 2021 which constitutes the final decision of the BLM and made the approved amendments to the RMPs, effective immediately. The BLM also signed the ROW grant for the Northern Corridor highway and issued the grant to the Utah Department of Transportation (UDOT) on January 13, 2021, which is effective immediately. The Service's Regional Director for Interior Regions 5 and 7 signed a ROD for issuance of an ITP, supported by the Habitat Conservation Plan (HCP), to Washington County (County) on January 13, 2021.

ADDRESSES: The RODs are available on the BLM ePlanning project website at https://eplanning.blm.gov/eplanning-ui/project/1502103/510. Click the “Documents” link on the left side of the screen to find the electronic versions of these materials. If you would like to request to view a hard copy, please call the St. George Field Office for more information at (435) 688-3200, Monday through Friday, except holidays.

FOR FURTHER INFORMATION CONTACT: Gloria Tibbetts, BLM Color Country District Planning and Environmental Coordinator, telephone: (435) 865-3063; address: 176 East DL Sargent Dr., Cedar City, UT 84721; email: gtibbetts@blm.gov. For information on the Amended HCP or ITP, contact Yvette Converse, Field Supervisor, U.S. Fish and Wildlife Service, telephone: (801) 975-3330 ext. 61912; email: utahfieldoffice_esa@fws.gov. Persons who use a telecommunications device for the deaf may call the Federal Relay Service (FRS) at 1-800-877-8339 to leave a message or question for Ms. Tibbetts or Ms. Converse. The FRS is available 24 hours a day, 7 days a week. Replies are provided during normal business hours.

SUPPLEMENTARY INFORMATION: On September 4, 2018, UDOT submitted an application for a ROW grant for the Northern Corridor Project north of the City of St. George, Utah, on BLM-administered and non-Federal lands within the Red Cliffs NCA and Red Cliffs Desert Reserve (Reserve). The Reserve was established for the protection of the Mojave desert tortoise under the 1995 Washington County HCP. The NCA was established through the passage of the Omnibus Public Land Management Act of 2009. The 1995 HCP expired in 2016 and was extended by the Service to allow the County to amend the HCP pursuant to Section 10(a)(1)(B) of the Endangered Species Act (ESA). The Service received an application for an ITP dated January 30, 2015. The associated amended HCP was finalized by Washington County on October 20, 2020. The amended HCP anticipates the Northern Corridor highway, as a potential changed circumstance, would be partially offset with the addition of a new sixth zone to the Reserve (Reserve Zone 6) as the primary conservation strategy. To allow for consideration of and mitigation for the Northern Corridor, the BLM considered amendments to the Red Cliffs NCA and St. George Field Office RMPs.

The BLM and the Service, as joint lead agencies, reviewed the ROW and ITP applications, and the BLM developed the approved amendments to the RMPs in close coordination with the Service and cooperating agencies, using input from the public, stakeholder groups, State and local government entities, and American Indian tribes.

The BLM and the Service prepared an environmental impact statement (EIS) in accordance with the National Environmental Policy Act (NEPA) to analyze the environmental impacts associated with the proposed action and the alternatives. Additionally, the BLM consulted with the Service to meet the requirements in Section 7 of the ESA. A biological opinion was issued by the Service to the BLM on January 12, 2021, and determined that the ROW and approved amendments to the RMPs are not likely to jeopardize the continued existence of the Mojave desert tortoise in the Upper Virgin River Recovery Unit and range-wide and that they are not likely to destroy or adversely modify designated critical habitat for the desert tortoise. Pursuant to section 10 of the ESA, the Service issued an intra-agency biological opinion on January 12, 2021, which determined that the ITP is not likely to jeopardize the continued existence of the Mojave desert tortoise, Holmgren milkvetch, Shivwits milkvetch, dwarf bear-poppy, Siler pincushion cactus, Gierisch mallow, and Fickeisen plains cactus or result in the adverse modification of critical habitat for the Mojave desert tortoise, Holmgren milkvetch, Shivwits milkvetch, Gierisch mallow, or Fickeisen plains cactus. The agencies also consulted with the Utah State Historic Preservation Office (SHPO) and consulting parties as part of the Section 106 review process under the National Historic Preservation Act (NHPA). The BLM determined, and SHPO concurred, that the ROW will result in adverse effects to historic properties and that the amendments to the Red Cliffs NCA and St. George Field Office RMPs will result in no adverse effects to historic properties. For the ITP, the Service cannot fully determine the effects to historic properties prior to issuance of the ITP and has worked with the SHPO and other consulting parties to develop a programmatic agreement, as authorized by 36 CFR 800.14(b). The programmatic agreement defines a process to evaluate and address any adverse effects to historic properties related to actions by Washington County on a case-by-case basis throughout the term of the ITP. The final programmatic agreement for the ITP was signed on December 15, 2020.

The formal public scoping process began on December 5, 2019, with the publication of a Notice of Intent (NOI) in the Federal Register (84 FR 66692), which initiated a 30-day public scoping period. The Notice of Availability (NOA) for the Draft EIS and Amendments to the RMPs, Notice of ESA Section 10(a)(1)(B) permit application, and NOI announcing a concurrent public comment period for the proposed permanent closure of recreational target shooting within the proposed Reserve Zone 6 area were published on June 12, 2020 (85 FR 35950), which initiated a 90-day public comment period.

On November 13, 2020, the BLM published the NOA for the Final EIS and Proposed Amendments to the RMPs (85 FR 72683), initiating a 30-day protest period and a concurrent Governor's consistency review of up to 60 days. During the protest period for the Proposed Amendments to the RMPs, the BLM received 18 protest letters. All protests were resolved prior to the issuance of the RODs. For a full description of the issues raised during the protest period and how they were addressed, please refer to the BLM Protest Resolution Report, which is available online at https://www.blm.gov/programs/planning-and-nepa/public-participation/protest-resolution-reports. The Governor of Utah reviewed the Final EIS and Proposed Amendments to the RMPs and did not identify any inconsistencies with State or local plans, policies, or programs. Finally, in compliance with the John D. Dingell, Jr. Conservation, Management, and Recreation Act of 2019, Public Law 116-9, 16 U.S.C. 7913, and 43 CFR 8364.1, the NOA for the Draft EIS and Draft Amendments to the RMPs included an NOI announcing a concurrent 90-day public comment period regarding the proposed closure of recreational target shooting on BLM-administered lands within Reserve Zone 6. Based on issues analyzed in the EIS and feedback received during the target shooting comment period, protest period, government-to-government consultation, section 106 (NHPA) and section 7 (ESA) consultation, and Governor's consistency review, the BLM approved amendments to the St. George Field Office RMP, which includes a closure to recreational target shooting on BLM-administered lands within Reserve Zone 6.

Authority: Consistent with 40 CFR 1506.13 (2020), this notice and the EIS are issued under previous NEPA regulations: 40 CFR 1505.2; 40 CFR 1506.6; 40 CFR 1506.10; and 43 CFR 1610.2. The BLM also provides this notice under 43 CFR 8364.1 and 16 U.S.C. 7913. The Service also provides this notice under section 10(c) of the ESA (16 U.S.C. 1531 et seq.) and its implementing regulations for incidental take permits (50 CFR 17.22).

Gregory Sheehan,
State Director.
Noreen Walsh,
Regional Director.

[FR Doc. 2021-00652 Filed 1-14-21; 8:45 am]

BILLING CODE 4310-DQ-P